DEPARTMENT OF LABOR

Employment and Training Administration

[TA-W-55,921]

AG World Support Systems, LLC, a Subsidiary of Ag World Group, On-Site Workers at J.R. Simplot Company, Hermiston, OR; Amended Certification Regarding Eligibility To Apply for Worker Adjustment Assistance and Alternative Trade Adjustment Assistance

In accordance with section 223 of the Trade Act of 1974 (19 U.S.C. 2273), the Department of Labor issued a Certification of Eligibility to Apply for Worker Adjustment Assistance on December 14, 2004, applicable to workers of Ag World Support Systems, LLC, a subsidiary of Ag World Group, on-site at J. R. Simplot Company, Hermiston, Oregon. This notice will be published soon in the Federal Register.

At the request of the State agency, the Department reviewed the certification for workers of the subject firm. The workers are on-site inspectors in support of the production of potato products.

Information shows that the Oregon Employment Department requested Alternative Trade Adjustment Assistance (ATAA) on behalf of the workers of the subject firm, but that request was not addressed in the decision document.

Information obtained from the company states that a significant number of workers of the subject firm are age 50 or over, workers have skills that are not easily transferable, and conditions in the industry are adverse. Review of this information shows that all eligibility criteria under section 246 of the Trade Act of 1974 (26 U.S.C. 2813), as amended, have been met.

Accordingly, the Department is amending the certification to reflect its finding.

The amended notice applicable to TA-W-55,921 is hereby issued as follows:

Workers employed by Ag World Support Systems, LLC, a subsidiary of Ag World Group, Hermiston, Oregon, working at J.R. Simplot Company, Hermiston, Oregon, who became totally or partially separated from employment on or after November 2, 2003, through December 14, 2006, are eligible to apply for adjustment assistance under section 223 of the Trade Act of 1974, and are also eligible to apply for alternative trade adjustment assistance under Section 246 of the Trade Act of 1974.

Signed in Washington, DC, this 28th day of December, 2004.
Richard Church,
Certifying Officer, Division of Trade Adjustment Assistance.

[FR Doc. E5-205 Filed 1-19-05; 8:45 am]

BILLING CODE 4510-30-P